DEPARTMENT OF THE INTERIOR

Bureau of Land Management

[21X.LLAZP02000.L54400000.EU0000.LVCLA21A5600]

Notice of Realty Action: Land Sale Segregation; Arizona

AGENCY: Bureau of Land Management.

ACTION: Notice of realty action.

SUMMARY: The Bureau of Land Management (BLM) proposes a noncompetitive (direct) sale of 20 acres to the City of Apache Junction (City) in accordance with the applicable provisions of Sections 203 and 209 of the Federal Land Policy and Management Act of 1976 (FLPMA) and the BLM land sale regulations. Since the Recreation and Public Purposes Act (R&PP) does not authorize uses aimed predominately at producing revenue or where the principal use is a commercial activity, the City would like to further develop and operate the land through a direct sale. The appraised Fair Market Value (FMV) of the parcel is $1,400,000.

DATES: Submit written comments regarding this direct sale on or before October 3, 2022.

ADDRESSES: Comments may be mailed to Ryan Randell, Realty Specialist, at the BLM Lower Sonoran Field Office, 21605 N 7th Ave., Phoenix, Arizona 85027. Comments may also be faxed to (623) 580-5580 or emailed to BLM_AZ_PDO@blm.gov.

FOR FURTHER INFORMATION CONTACT: Ryan Randell, Realty Specialist, telephone (623) 580-5533, email: rrandell@blm.gov; or you may contact the BLM Lower Sonoran Field Office at the above listed address. Individuals in the United States who are deaf, deafblind, hard of hearing, or have a speech disability may dial 711 (TTY, TDD, or TeleBraile) to access telecommunications relay services. Individuals outside the United States should use the relay services offered within their country to make international calls to the point-of-contact in the United States. You will receive a reply during normal business hours.

SUPPLEMENTARY INFORMATION: The land of the R&PP lease has been developed by the City into a rodeo ground arena and the City hosts multiple municipal events annually in compliance with the approved R&PP lease plan of development.

On December 6, 1966, a Federal Register notice segregated the described land from all forms of disposal under the public land laws, including the mining laws, except applications under the State Indemnity Act and the R&PP Act.

On February 19, 1982, the BLM issued the Apache Junction Jaycees a lease under the R&PP Act for a rodeo ground arena. On July 23, 1986, the lease was assigned to the City, which has since successfully developed, maintained, and operated the lease as a rodeo ground.

The City has shown interest in using the land for activities that include third-party concessions and other commercial activities. This land is being offered for direct sale to the City at no less than the appraised FMV.

The public land was examined and identified as suitable for sale and is legally described as:

Gila and Salt River Meridian, Arizona

T. 1 N., R. 8 E.,

Sec. 9, S½SE¼SE¼.

The area described contains 20 acres, according to the official plat of survey on file with the BLM.

This public land is identified and designated for disposal in the Lower Sonoran Resource Management Plan (RMP), dated September 2012.

The land meets the criteria for direct sale under 43 CFR 2711.3-3(a): “Direct sales may be utilized, when in the opinion of the Authorized Officer, a competitive sale is not appropriate, and the public interest would best be served by a direct sale.” Disposal is consistent with Section 203(a)(3) of the FLPMA, which states “Disposal of such tract will serve important public objectives, including but not limited to expansion of communities and economic development . . . ” Additionally, the land meets the criteria for the conveyance of a mineral interest under 43 CFR 2720.0-3(a), which states “Section 209(b) of the Federal Land Policy and Management Act of 1976, 43 U.S.C. 1719(b), authorizes the Secretary of the Interior to convey mineral interests owned by the United States where the surface is or will be in non-Federal ownership, if certain specific conditions are met.” The BLM may convey a Federally owned mineral interest only when the authorized officer determines that it has no known mineral value, or that the mineral reservation is interfering with or precluding appropriate nonmineral development of the land and that nonmineral development is a more beneficial use than mineral development.

The BLM will prepare a parcel-specific National Environmental Policy Act analysis in connection with this notice.

The property will be segregated from all forms of appropriation under the public land laws, including the mining laws, except as it relates to direct sale to the City as herein proposed. The segregative effect will terminate upon issuance of a patent, by publication in the Federal Register of a termination of the segregation, or two years after publication of this notice, whichever occurs first.

On October 18, 2022, the portion of the R&PP Act classification identified above and any associated segregations will be terminated, and the land described above shall be open to direct sale to the City in accordance with the RMP. The proposed sale would be conducted in accordance with Section 203 & 209 of the FLPMA, subject to valid existing rights, the provisions of existing withdrawals and other segregations of record, and the requirements of applicable public land laws.

The patent, if issued, will contain the following reservations, covenants, terms, and conditions:

1. Rights-of-way for ditches and canals constructed by the authority of the United States will be reserved pursuant to the Act of August 30, 1890.

2. The conveyance will be subject to valid existing rights of record, including, but not limited to, those documented on the BLM public land records at the time of conveyance of the land.

3. The conveyance will also be subject to additional terms and conditions that the authorized officer deems appropriate to ensure proper land use and protection of the public interest.

Interested parties will receive a copy of this notice once it is published in the Federal Register, and the BLM will publish a legal notice in the newspaper of local circulation once a week for three consecutive weeks with information about this proposed realty action.

Comments: Interested persons may submit comments regarding the specific use proposed and whether the BLM followed proper administrative procedures in this action, or any other factor not directly related to the suitability of the land.

Any adverse comments will be reviewed by the BLM Arizona State Director who may sustain, vacate, or modify this realty action.

Before including your address, phone number, email address, or other personal identifying information in any comment, be aware that your entire comment, including your personal identifying information, may be made publicly available at any time. While you may ask us in your comment to withhold your personal identifying information from public review, we cannot guarantee that we will be able to do so.

(Authority: 43 CFR 2710 & 2720)

Leon Thomas,
District Manager, Phoenix District.

[FR Doc. 2022-17928 Filed 8-18-22; 8:45 am]

BILLING CODE 4310-32-P